DEPARTMENT OF ENERGY

Federal Energy Regulatory Commission

Notice of Commissioner and Staff Attendance at North American Electric Reliability Corporation Meetings

The Federal Energy Regulatory Commission hereby gives notice that members of the Commission and/or Commission staff may attend the following meetings:

North American Electric Reliability Corporation

Member Representatives Committee and Board of Trustees Meetings

Board of Trustees Corporate Governance and Human Resources Committee, Finance and Audit Committee, Compliance Committee, and Standards Oversight and Technology Committee Meetings

JW Marriot New Orleans, 614 Canal Street, New Orleans, LA 70130

November 8 (8:00 a.m.-5:00 p.m. central time) and November 9 (8:30 a.m.-12:00 p.m. central time), 2017

Further information regarding these meetings may be found at: http://www.nerc.com/Pages/Calendar.aspx.

The discussions at the meetings, which are open to the public, may address matters at issue in the following Commission proceedings:

Docket No. RR15-2, North American Electric Reliability Corporation

Docket No. RR17-6, North American Electric Reliability Corporation

For further information, please contact Jonathan First, 202-502-8529, or jonathan.first@ferc.gov.

Dated: October 27, 2017.
Nathaniel J. Davis, Sr.,
Deputy Secretary.

[FR Doc. 2017-23853 Filed 11-1-17; 8:45 am]

BILLING CODE 6717-01-P